DEPARTMENT OF EDUCATION

Applications for New Awards; Technology and Media Services for Individuals With Disabilities—Research and Development Center on the Use of Emerging Technologies To Improve Literacy Achievement for Students With Disabilities in Middle School

AGENCY: Office of Special Education and Rehabilitative Services, Department of Education.

ACTION: Notice.

Overview Information

Notice inviting applications for new awards for fiscal year (FY) 2011.

Catalog of Federal Domestic Assistance (CFDA) Number: 84.327M.

DATES:

Applications Available: May 26, 2011.

Deadline for Transmittal of Applications: July 25, 2011.

Deadline for Intergovernmental Review: September 23, 2011.

Full Text of Announcement

I. Funding Opportunity Description

Purpose of Program: The purposes of the Technology and Media Services for Individuals with Disabilities program are to: (1) Improve results for children with disabilities by promoting the development, demonstration, and use of technology; (2) support educational media services activities designed to be of educational value in the classroom setting to children with disabilities; and (3) provide support for captioning and video description that are appropriate for use in the classroom setting.

Priority: In accordance with 34 CFR 75.105(b)(2)(v), this priority is from allowable activities specified in the statute or otherwise authorized in the statute (see sections 674(c) and 681(d) of the Individuals with Disabilities Education Act (IDEA)).

Absolute Priority: For FY 2011 and any subsequent year in which we make awards from the list of unfunded applicants from this competition, this priority is an absolute priority. Under 34 CFR 75.105(c)(3) we consider only applications that meet this priority.

This priority is:

Technology and Media Services for Individuals With Disabilities—Research and Development Center on the Use of Emerging Technologies To Improve Literacy Achievement for Students With Disabilities in Middle School

Background

Middle school students with disabilities lag significantly behind students without disabilities in reading achievement. For example, the 2009 National Assessment of Educational Progress (NAEP) found that 8 percent of 8th grade students with disabilities scored proficient or above in reading compared to 35 percent of students without disabilities (U.S. Department of Education, 2010b).

For students with disabilities who are struggling readers, the general middle school curriculum offers fewer opportunities for developing basic literacy skills than the elementary school curriculum. For example, when a student enters middle school, there is a shift from developing basic reading skills to applying those skills to learn content in which general literacy skills are combined with “content-area literacy” skills, such as specialized vocabulary, basic concepts, and content-specific comprehension skills (Shanahan & Shanahan, 2008). Alleviating reading deficits at the middle school level requires integrating instruction to remediate basic skills with academic content instruction (Reed, 2009).

Technology can play a role in remediating academic deficits, and has the potential to improve the literacy achievement of students, including students with disabilities, at the middle school level (Moran et al., 2008; Kim et al., 2006). New technologies such as collaborative online environments, multiplayer and alternate reality games, electronic books, mobile broadband, augmented reality, learning analytics, and personalized Web-based environments offer new forms of powerful and engaging learning opportunities (Johnson, et al., 2009; Johnson, et al., 2010; Johnson, et al., 2011).

The Department's Blueprint for Reform: The Reauthorization of the Elementary and Secondary Education Act emphasizes the importance of improving capacity at the State and district levels to support the effective use of technology to improve instruction (U.S. Department of Education, 2010a). In addition, the National Educational Technology Plan (NETP) (U.S. Department of Education, 2010c) emphasizes that technology is at the core of virtually all aspects of modern life, and that it should play an essential role in 21st century education and contribute to the “revolutionary transformation” that is needed to address critical educational challenges.

There is, however, a need for continued research, particularly as 21st century technologies advance and are integrated into instruction. Of particular importance is research on how the benefits of emerging technologies can be extended to areas of highest need such as persistently lowest-achieving schools. The Department has previously identified this further need for research in the Supplemental Priorities for Discretionary Grant Programs, issued in December 2010. Those supplemental priorities included Priority 14 “Building Evidence of Effectiveness” for projects that propose evaluation plans that are likely to produce valid and reliable evidence for, among other areas, “identifying and improving practices * * * that may contribute to improving outcomes;” and Priority 6 “Technology” for projects designed to “improve student achievement or teacher effectiveness through the use of high-quality digital tools or materials, which may include * * * developing, implementing, or evaluating digital tools or materials” (U.S. Department of Education, 2010d). This priority is consistent with the Supplemental Priorities.

The purpose of this priority is to support research that investigates how emerging 21st century technologies can be used to improve literacy achievement for students with disabilities in middle school. Specifically, the Center funded under this priority will explore how technologies can be used to: (1) Accelerate remediation in basic reading skills in conjunction with content-area instruction; (2) enhance student motivation, engagement, and self-efficacy related to literacy learning; and (3) improve efficiency in the use of educational resources (e.g., through the use of open educational resources, increasing academic learning time).

Priority:

The purpose of this priority is to fund a cooperative agreement to support the establishment and operation of a Research and Development Center on the Use of Emerging Technologies to Improve Literacy Achievement for Students with Disabilities in Middle School (Center). Under this priority, the Center will form a consortium with established technology developers and researchers to conduct a systematic program of research and development on the use of emerging 21st century technologies to improve literacy achievement for students with disabilities in middle schools, including middle schools that are persistently lowest-achieving schools.¹

¹ For purposes of this priority, the term persistently lowest-achieving school means, consistent with section 1003(g) of the ESEA, School Improvement Grants (74 FR 65618), as determined by the State: (i) Any Title I school in improvement, corrective action, or restructuring that (a) Is among the lowest-achieving five percent of Title I schools in improvement, corrective action, or restructuring or the lowest-achieving five Title I schools in improvement, corrective action, or restructuring in the State, whichever number of schools is greater; or (b) Is a high school that has had a graduation rate as defined in 34 CFR 200.19(b) that is less than 60 percent over a number of years; and (ii) Any secondary school that is eligible for, but does not receive, Title I funds that (a) Is among the lowest-achieving five percent of secondary schools or the lowest-achieving five secondary schools in the State that are eligible for, but do not receive, Title I funds, whichever number of schools is greater; or (b) Is a high school that has had a graduation rate as defined in 34 CFR 200.19(b) that is less than 60 percent over a number of years. To determine whether a school is a lowest-achieving school for purposes of this definition, a State must take into account both (i) The academic achievement of the “all students” group in a school in terms of proficiency on the State's assessments under section 1111(b)(3) of the ESEA in reading/language arts and mathematics combined; and (ii) The school's lack of progress on those assessments over a number of years in the “all students” group (U.S. Department of Education, 2010b).

To be considered for funding under this absolute priority, applicants must meet the application requirements contained in this priority. The Center funded under this absolute priority also must meet the programmatic and administrative requirements specified in the priority.

Application Requirements. An applicant must include in its application—

(a) A theoretical and empirical justification for the technology or technologies to be developed and evaluated under the proposed Center. This may be a single emerging technology (e.g., a game-based learning environment) or a combination of emerging technologies (e.g., a collaborative learning environment incorporating multiplayer, game-based features and learning analytic tools). (For simplicity, the word “technology” will be used hereinafter to refer to the technology or combination of technologies to be developed and studied by the Center.) In essence, the theoretical and empirical justification must answer the following question: What is the evidence that the proposed technology has strong potential for substantially improving literacy outcomes for middle school students with disabilities? Applicants must—

(1) Describe the broader education context for the proposed technology by including data on, and reviewing research describing, the attributes of typical existing practices that the technology will enhance or replace; and

(2) Demonstrate an understanding of how the proposed technology would address the shortcomings of existing practices.

(b) A detailed description of the proposed technology for improving literacy achievement for students with disabilities in middle school and a theory of change for the proposed technology. Applicants must—

(1) Specify the key components of the proposed technology (i.e., the active ingredients that are hypothesized to be critical to achieving the intended results) and describe how they relate to each other temporally (or operationally), pedagogically, and theoretically (e.g., why A leads to B); and

(2) Provide a strong theoretical and empirical justification for the design and sequencing of the features or components of the technology.

For example, if the applicant proposes to develop and study a combination of technologies including a collaborative learning environment, game-based learning, and learning analytic tools, the applicant must describe the specific components of the technologies (e.g. the types of collaboration, the game experiences, the analytics to be performed, etc.) and how they might interrelate to produce outcomes of interest in this priority (e.g. accelerated remediation in basic reading skills and enhanced student motivation, engagement, and self-efficacy). Although the specific combination of technologies may be new, the applicant must provide theoretical and empirical support from existing literature (e.g. on technology-based games and motivation, collaborative learning, data-based decision making, etc.) to justify the design and features of the proposed technology. This example is illustrative only and not intended to constrain or guide the selection of technologies. We note that when applicants clearly describe the features of a proposed technology and the theory of change that guides the technology, reviewers are better able to evaluate whether the proposed technology has the potential to substantially improve student outcomes relative to current practice.

(c) A detailed research plan for developing the proposed technology and assessing the feasibility of implementing the proposed technology in middle schools including middle schools that are persistently lowest-achieving schools, and the promise of the proposed technology for improving student outcomes. The plan must—

(i) Describe a systematic, iterative development process to be used in the design and refinement of the proposed technology and plans for acquiring evidence about the operation of the intervention according to the theory of change for the proposed technology;

(ii) Define the samples and settings that will be used to develop the proposed technology, assess the feasibility of the proposed technology for use in middle schools by students with disabilities, and test the promise of the proposed technology for improving the literacy outcomes of students with disabilities. Evidence of the promise of the proposed technology may be obtained through a small quasi-experimental study incorporating a comparison group with pretest and posttest data, a small experimental study, or for low-incidence populations, a series of single-subject experimental design studies. Assessment of the feasibility of implementation and testing of the promise of the technology provides feedback to the Center on the usability of the technology in middle schools by students with disabilities and their teachers and initial information on the effectiveness of the technology for substantially improving student outcomes. These data may result in further modification and development of the technology; and

(iii) Explicitly, but not necessarily exclusively, address the needs of students with disabilities in middle schools that are persistently lowest-achieving schools, recognizing that these schools often face challenges in technology innovation and implementation. The Center may, for example, develop technology that can be adapted to a school's level of achievement and technology readiness, develop strategies for establishing affiliations with high-performing schools to support the use of emerging technology in low-performing schools, or simply set aside a portion of the Center's resources to develop technology specifically suited to middle schools that are persistently lowest-achieving schools.

(d) A detailed research plan for testing the efficacy of the proposed technology for improving literacy outcomes of students with disabilities. This plan must—

(i) Define the sample to be selected, a portion of which must be middle schools that are persistently lowest-achieving schools, and sampling procedures to be employed, including justification for exclusion and inclusion criteria;

(ii) Describe strategies to increase the likelihood that participants (including schools, teachers, and students) will remain in the study over the course of the evaluation (i.e., reduce attrition);

(iii) Describe the design of the evaluation. Studies using random assignment to intervention and comparison conditions have the strongest internal validity for causal conclusions and, thus, are preferred whenever they are feasible. When a randomized trial is proposed, the applicant must clearly state and present a convincing rationale for the unit of randomization (e.g., student, classroom, teacher, or school). Applicants must explain the procedures for assignment of groups (e.g., schools) or participants to intervention and comparison conditions and how the integrity of the assignment process will be ensured.

Applicants may propose a quasi-experimental design (e.g., a regression discontinuity design) rather than a randomized trial when randomization is not possible. Applicants must justify that the proposed design permits drawing causal conclusions about the effect of the intervention on the intended outcomes. Applicants must discuss how selection bias will be minimized or modeled. To this end, the specific assumptions made by the design should be well justified. Applicants must explicitly discuss the threats to internal validity that are not addressed convincingly by the design and how conclusions from the research will be tempered in light of these threats;

(iii) Address the statistical power of the evaluation design to detect a reasonably expected and minimally important effect. When justifying what constitutes a reasonably expected effect, applicants must indicate clearly (e.g., by including the statistical formula) how the effect size was calculated;

(iv) Justify the appropriateness of the chosen measures. Applicants must provide information on the reliability and validity of the proposed measures, the procedures for and the timing of the data collection, and indicate procedures to guard against bias entering into the data collection process;

(v) Describe how the applicant will assess the fidelity of implementation of the proposed technology in middle schools and how fidelity data will be incorporated into analyses of the impact of the intervention;

(vi) Demonstrate consideration to the selection of the counterfactual. Comparisons of interventions against other conditions are only meaningful to the extent that one can tell what the comparison group receives or experiences (e.g., regular instruction only, regular instruction including a different technology product); and

(vii) Describe data analysis procedures. For quantitative data, specific statistical procedures must be described. The relation between hypotheses, measures, and independent and dependent variables should be clear. For qualitative data, the specific methods used to index, summarize, and interpret data must be delineated.

(e) Evidence of commitment from established technology developers and researchers in areas relevant to the Center's mission who express their commitment to form a consortium to conduct collaborative research and development efforts. The members of the consortium must collectively demonstrate high levels of expertise in all of the following: development of the emerging technology described in paragraphs (a) and (b) of this priority, educational uses of advanced technology, addressing the problems of persistently lowest-achieving schools, field-based technology research and development, literacy pedagogy, and teaching students with disabilities at the middle school level.

(f) A plan for a formative evaluation of the proposed project's activities. The plan must describe how the formative evaluation will use clear performance objectives to ensure continuous improvement in the operation of the proposed project, including objective measures of progress in implementing the project and ensuring the quality of products and services;

(g) A budget for a summative evaluation to be conducted by an independent third party; and

(h) A budget for attendance at the following:

(1) A one and one half-day kick-off meeting to be held in Washington, DC, within four weeks after receipt of the award, and an annual planning meeting held in Washington, DC, with the Office of Special Education Programs (OSEP) Project Officer during each subsequent year of the project period.

(2) A three-day Project Directors' Conference in Washington, DC, during each year of the project period.

(3) Two additional two-day trips annually to attend Department briefings, Department-sponsored conferences, and other meetings, as requested by OSEP.

Project Activities. To meet the requirements of this priority, the Center, at a minimum, must—

(a) Establish and maintain a technical work group (TWG) to review the research plans and activities of the Center and to provide technical advice throughout the project period. At a minimum, the TWG must convene annually, whether in person, by phone, or through another means. The TWG must include experts in the research methodologies employed by the Center, the emerging technology under study, issues faced by persistently lowest-achieving middle schools, literacy instruction, and instruction for students with disabilities;

(b) Carry out the research plan developed under Application Requirements item (c) to develop the proposed technology, assess the feasibility of implementing the proposed technology in middle schools, and test the promise of the proposed technology for improving literacy outcomes of students with disabilities.

(c) Carry out the research plan developed under Application Requirements item (d) to evaluate the efficacy of the proposed technology to improve literacy outcomes of students with disabilities.

(d) Maintain a Web site that meets government or industry-recognized standards for accessibility;

(e) Disseminate information on the activities and findings of the Center regionally and nationally through the use of Web sites, listservs, publications, presentations, and communities of practice;

(f) Maintain ongoing communication with the OSEP Project Officer through monthly phone conversations and e-mail communication; and

(g) Communicate and collaborate, on an ongoing basis, with Department-funded projects and other projects engaged in related activities. This collaboration may include the joint development of products, coordination of research, and planning and carrying out of meetings and events.

Extending the Project for a Fourth and Fifth Year

The Secretary may extend the Center for up to two additional years beyond its original project period of 36 months if the grantee is achieving the intended outcomes of the grant, and is making a positive contribution to developing and testing emerging technology to improve the academic achievement of middle school students with disabilities.

References

Balfanz, R. (2009). Putting middle grades students on the graduation path: A policy and practice brief. National Middle School Association. Retrieved on January 3, 2010 from http://www.nmsa.org/Publications/RMLEOnline/Articles/tabid/101/Default.aspx.

Johnson, L., Levine, A., Smith, R., and Smythe, T. (2009). The 2009 Horizon Report: K-12 Edition. Austin, Texas: The New Media Consortium.

Johnson, L., Smith, R., Levine, A., and Haywood, K. (2010). 2010 Horizon Report: K-12 Edition. Austin, Texas: The New Media Consortium.

Johnson, L., Smith, R., Willis, H., Levine, A., and Haywood, K. (2011). 2011 Horizon Report. Austin, Texas: The New Media Consortium.

Kim, A. E., Vaughn, S., Klingner, J. K., Woodruff, A. L., Reutebuch, C. K., & Kouzekanani, K. (2006). Improving the reading comprehension of middle school students with disabilities through computer-assisted collaborative strategic reading. Remedial and Special Education, 27(4), 235-249.

Moran, J., Ferdig, R. E., Pearson, P. D., Wardrop, J., Blomeyer, R. L. (2008). Technology and reading performance in the middle-school grades: A meta-analysis with recommendations for policy and practice Journal of Literacy Research, 40, 6-58.

Reed, D.K. (2009). A synthesis of professional development on the implementation of literacy strategies for middle school content area teachers. Research in Middle Level Education Online, 32, 1-12. Retrieved January 3, 2009 from http://www.nmsa.org/Publications/RMLEOnline/Articles/tabid/101/Default.aspx.

Shanahan, T, & Shanahan, C. (2008). Teaching disciplinary literacy to adolescents: Rethinking content-area literacy. Harvard Educational Review, 78(1), 40-59.

U.S. Department of Education. (2010a). A Blueprint for Reform: The Reauthorization of the Elementary and Secondary Education Act. Retrieved from http://www2.ed.gov/policy/elsec/leg/blueprint/blueprint.pdf.

U.S. Department of Education, Institute of Education Sciences, National Center for Education Statistics. (2010b). NAEP Data Explorer. Retrieved on July 9, 2010, from http://nces.ed.gov/nationsreportcard/naepdata.

U.S. Department of Education, Office of Educational Technology. (2010c). Transforming American Education: Learning Powered by Technology, Washington, DC.

U.S. Department of Education. (2010d). Supplemental Priorities for Discretionary Grant Programs. Federal Register, 75(240), December 15, 2010, pp 78486-78511.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1474 and 1481(d).

Applicable Regulations: The Education Department General Administrative Regulations (EDGAR) in 34 CFR parts 74, 75, 77, 79, 80, 81, 82, 84, 85, 86, 97, 98, and 99.

Note: The regulations in 34 CFR part 79 apply to all applicants except Federally recognized Indian Tribes.

Note: The regulations in 34 CFR part 86 apply to institutions of higher education (IHEs) only.

II. Award Information

Type of Award: Cooperative agreement.

Estimated Available Funds: $1,996,000.

Contingent upon the availability of funds and the quality of applications, we may make additional awards in FY 2012 from the list of unfunded applicants from the competition.

Maximum Award: We will reject any application that proposes a budget exceeding $1,996,000 for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance.

III. Eligibility Information

1. Eligible Applicants: State educational agencies (SEAs); local educational agencies (LEAs), including public charter schools that are considered LEAs under State law; IHEs; other public agencies; private nonprofit organizations; and for-profit organizations.

Note: Because of the challenging nature of the project, the Secretary encourages eligible entities with the ability and capacity to conduct scientifically valid research to form consortia with any other eligible parties (including researchers, developers, etc.) that meet the requirements in 34 CFR 75.127 through 75.129 to apply under the priority in this notice. A consortium is any combination of eligible entities. The Secretary views the formation of consortia as an effective and efficient strategy to address the requirements of the priority in this notice.

2. Cost Sharing or Matching: This competition does not require cost sharing or matching.

3. Other: General Requirements—(a) The Center funded under this competition must make positive efforts to employ and advance in employment qualified individuals with disabilities (see section 606 of IDEA).

(b) Applicants and the grant recipient funded under this competition must involve individuals with disabilities or parents of individuals with disabilities ages birth through 26 in planning, implementing, and evaluating the projects (see section 682(a)(1)(A) of IDEA).

IV. Application and Submission Information

1. Address to Request Application Package: Education Publications Center (ED Pubs), U.S. Department of Education, P.O. Box 22207, Alexandria, VA 22304. Telephone, toll free: 1-877-433-7827. Fax: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this competition as follows: CFDA number 84.327M.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages, using the following standards:

• A “page” is 8.5″ × 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit; or if you apply other standards and exceed the equivalent of the page limit.

3. Submission Dates and Times:

Applications Available: May 26, 2011.

Deadline for Transmittal of Applications: July 25, 2011.

Applications for grants under this competition may be submitted electronically using the Grants.gov Apply site (Grants.gov), or in paper format by mail or hand delivery. For information (including dates and times) about how to submit your application electronically, or in paper format by mail or hand delivery, please refer to section IV. 7.

Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 23, 2011.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this competition may be submitted electronically or in paper format by mail or hand delivery.

a. Electronic Submission of Applications.

We are participating as a partner in the Governmentwide Grants.gov Apply site. The Research and Development Center on the use of Emerging Technologies to Improve Academic Achievement for Students with Disabilities in Middle School competition, CFDA number 84.327M, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Research and Development Center on the use of Emerging Technologies to Improve Academic Achievement for Students with Disabilities in Middle School competition, CFDA number 84.327M at http://www.Grants.gov. You must search for the downloadable application package for this program by the CFDA number. Do not include the CFDA number's alpha suffix in your search (e.g., search for 84.327, not 84.327M).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must attach any narrative sections of your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail

If you submit your application in paper format by mail (through the U.S. Postal Service or a commercial carrier), you must mail the original and two copies of your application, on or before the application deadline date, to the Department at the following address: U.S. Department of Education, Application Control Center, Attention: (CFDA Number 84.327M), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.327M), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technology and Media Services for Individuals with Disabilities program. These measures focus on the extent to which projects are of high quality, are relevant to improving outcomes of children with disabilities, and contribute to improving outcomes for children with disabilities. We will collect data on these measures from the project funded under this competition.

The grantee will be required to report information on its project's performance in annual performance reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: David Malouf, U.S. Department of Education, 400 Maryland Avenue, SW., Room 4114, Potomac Center Plaza (PCP), Washington, DC 20202-2550. Telephone: (202) 245-6253.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: May 20, 2011.
Alexa Posny,
Assistant Secretary for Special Education and Rehabilitative Services.

[FR Doc. 2011-13107 Filed 5-25-11; 8:45 am]

BILLING CODE 4000-01-P